ENVIRONMENTAL PROTECTION AGENCY

[OPP-2004-0387; FRL-7704-8]

40 CFR Parts 152 and 158

Pesticides; Data Requirements for Conventional Chemicals; Notice of Public Meeting

AGENCY: Environmental Protection Agency (EPA).

ACTION: Notice of meeting on proposed rule.

SUMMARY: The EPA is convening a 2-day public workshop to explain the provisions of its recently proposed rule updating and revising data requirements for conventional pesticides in 40 CFR parts 152 and 158. The data requirements identify the types of information that EPA needs to determine that a pesticide product can be registered, a tolerance or exemption can be issued for pesticide residues in food, or the pesticide can be used experimentally. The proposed rule is intended to: Improve the scientific basis for pesticide decisions; update the requirements last codified in 1984; and reorganize part 158 to improve usability. These efforts will help protect human health and the environment by identifying, assessing, and reducing the risks of conventional pesticides for use in the United States. This workshop is open to the public.

DATES: The workshop will be held on May 3, 2005, from 9 a.m. to 3:30 p.m. and on May 4, 2005, from 9 a.m. to noon.

ADDRESSES: The workshop will be held at Holiday Inn Rosslyn, 1900 N. Fort Myer Drive, Arlington, VA, 22209.

FOR FURTHER INFORMATION CONTACT: Vera Au, Field and External Affairs Division (7506C), Office of Pesticide Programs, Environmental Protection Agency, 1200 Pennsylvania Ave., NW., Washington, DC 20460-0001; telephone number: 703-308-9069; fax number: 703-305-5884; e-mail address: au.vera@epa.gov.

SUPPLEMENTARY INFORMATION:

I. General Information

A. Does this Action Apply to Me?

You may be potentially affected by this action if you are a producer or registrant of a pesticide product for agricultural, residential and industrial uses. This action may also affect any person or company who might petition the Agency for new tolerances, hold a pesticide registration with existing tolerances, or any person or company who is interested in obtaining or retaining a tolerance in the absence of a registration, that is, an import tolerance. This latter group may include pesticide manufacturers or formulators, importers of food, grower groups, or any person or company who seeks a tolerance. Potentially affected entities may include, but are not limited to:

Chemical Producers (NAICS 32532), e.g., pesticide manufacturers or formulators of pesticide products, importers or any person or company who seeks to register a pesticide or to obtain a tolerance for a pesticide.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the appropriate Branch Chief in the Registration Division of the Office of Pesticide Programs at 703-305-5447.

B. How Can I Get Copies of this Document and Other Related Information?

1. Docket. EPA has established an official public docket for this action under docket identification (ID) number OPP-2004-0387. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

EPA is convening a workshop to review proposed revisions to the data requirements for the registration of conventional pesticides. Under the Federal Food, Drug and Cosmetic Act and the Federal Insecticide, Fungicide and Rodenticide Act, anyone seeking to register a pesticide product is required to provide information to EPA that demonstrates their products can be used without posing unreasonable risk to human health and the environment. For food uses, the registrant is required to provide information demonstrating that there is a reasonable certainty that no harm will result from exposures to the residues of their pesticide product.

The workshop will include presentations by staff from the Health Effects Division and the Environmental Fate and Effects Division of the Office of Pesticide Programs. The proposed revisions are primarily directed at conventional pesticides, not antimicrobial pesticides, biochemical pesticides, nor microbial pesticides. Nonetheless, all interested parties are welcome and may benefit from the discussions since EPA is planning on revisions to the data requirements in these areas in the future. Some of the proposed revisions apply to all pesticide products, e.g. changes in general procedures and policies for data submission. During the workshop, persons in attendance will be able to ask questions regarding the material being presented. Day 1 will cover general data procedures, chemistry, toxicology and exposure data requirements. Day 2 will cover environmental fate and nontarget organisms data requirements.

The proposed revisions were issued in the Federal Register of March 11, 2005, (70 FR 12275)(FRL-6811-2). A 90-day comment period will end on June 9, 2005. A limited number of copies of the proposed rule will be available at the workshop. Attendees are encouraged to access the electronic version of the proposed rule from EDOCKET at Docket ID No. OPP-2004-0387.

List of Subjects

Environmental protection, Administrative practice and procedure, Agricultural commodities, Pesticides and pests, Reporting and recordkeeping requirements

Dated: March 24, 2005.
James Jones,
Director, Office of Pesticide Programs.

[FR Doc. 05-6624 Filed 3-31-05; 8:45 am]

BILLING CODE 6560-50-S